DEPARTMENT OF ENERGY

Federal Energy Regulatory Commission

[Docket No. RP06-297-000]

Tennessee Gas Pipeline Company; Notice of Petition for Declaratory Order

April 12, 2006.

Take notice that on March 31, 2006, Tennessee Gas Pipeline Company (Tennessee) filed a petition for declaratory order under Rule 207(a)(2) of the Commission's regulations (18 CFR 385.207(a)(2)) requesting that the Commission find that: (1) Columbia Gulf Transmission Company (Columbia Gulf) is violating the Commission's Orders issued in Docket No. RP04-215-000 ¹ by refusing to allow installation of two taps necessary for the Commission-directed interconnection on the Blue Water Project, (2) Columbia Gulf must permit the taps to be installed and in service no later than ten days after the upstream facilities have been constructed by Tennessee; and (3) Columbia Gulf's compliance with (1) and (2), is not conditioned upon any other requirement.

¹ Tennessee Gas Pipeline Co. v. Columbia Gulf Transmission Co., 112 FERC ¶ 61,118, order denying reh'g, denying stay, and issuing clarification, 113 FERC ¶ 61,200 (2005).

Any person desiring to intervene or to protest this filing must file in accordance with Rules 211 and 214 of the Commission's regulations (18 CFR 385.211 and 385.214). Protests will be considered by the Commission in determining the appropriate action to be taken, but will not serve to make protestants parties to the proceeding. Any person wishing to become a party must file a notice of intervention or motion to intervene, as appropriate. Such notices, motions, or protests must be filed in accordance on or before the date as indicated below. Anyone filing an intervention or protest must serve a copy of that document on Tennessee. Anyone filing an intervention or protest on or before the intervention or protest date need not serve motions to intervene or protests on persons other than Tennessee.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 28, 2006.

Magalie R. Salas,
Secretary.

[FR Doc. E6-5817 Filed 4-18-06; 8:45 am]

BILLING CODE 6717-01-P